DEPARTMENT OF ENERGY

Federal Energy Regulatory Commission

[ Project No. 2310-193—California; Project No. 2266-102—California]

Pacific Gas and Electric Company; Nevada Irrigation District; Notice of Environmental Site Review

On July 6-8, 2011, the Federal Energy Regulatory Commission (Commission) staff and the Pacific Gas and Electric Company (PG&E) and Nevada Irrigation District (NID) (applicants) will conduct an environmental site review of the Drum-Spaulding and Yuba-Bear Projects. The Drum-Spaulding Project is located on the west slope of the Sierra Nevada on the South Yuba River, Bear River, North Fork of the North Fork American River, and tributaries in the Sacramento River watershed in Nevada and Placer Counties, California. The Yuba-Bear Hydroelectric Project is located on the west slope of the Sierra Nevada in the Middle Yuba River, Canyon Creek, Rucker Creek and Bear River watersheds in Nevada, Placer and Sierra Counties, California.

The site visit is open to the public and resource agencies, and will occur from 8 a.m. to about 5 p.m. (Pacific Daylight Time) on each of three days. Participants will meet no later than the start time at Discovery Trail near Bear Valley on the first day, at PG&E's Alta Service Center on the second day, and at PG&E's Halsey forebay on the third day. Each day will start with a brief safety talk, review of the facilities that will be visited that day, and discussion of logistics. The tour will depart the meeting location no later than 15 minutes after the start time. We will try to return to the meeting location by 5 p.m. each day.

Participants are responsible to provide their own transportation (recommend a 4-wheel drive vehicle), but car pooling to the extent possible is encouraged. We do not anticipate hiking in any difficult terrain or entering private property that requires special permission, but some brief walking over dirt trails might be needed. Cell phone coverage in the upper and mid elevation sites is limited.

Safety is a prime concern. Many of the sites that will be visited require wearing hardhats, safety eyewear, and safety vests that licensees will provide. Participants must wear appropriate footwear (i.e. no sandals or open-toed shoes).

The schedule below is provided for general guidance only and is not intended to be a strict schedule. We may proceed through the schedule for each day at a slower or faster pace than anticipated in the schedule below, or may decide to delete or add project facilities. For these reasons and because of poor electronic communications in some areas, it will be difficult for a participant to join the site visit after it departs the initial meeting location. Project facilities listed below are indicated as either “YB” for NID's Yuba-Bear Hydroelectric Project or “DS” for PG&E's Drum-Spaulding Project.

Wednesday, July 6, 2011

• Meet at Discovery Trail in Bear Valley at 8 a.m.;

• Bowman Lake (YB);

• Bowman/Spaulding canal at Fall Creek (YB);

• Fuller Lake (DS);

• Lake Spaulding dam (DS);

• Bear Valley—Drum canal and South Yuba canal (DS).

Thursday, July 7, 2011

• Meet at Alta Service Center at 8 a.m.;

• Drum powerhouse (DS);

• Dutch Flat #2 powerhouse (YB);

• Dutch Flat afterbay (YB);

• Rollins dam (YB);

• Bear River Head dam (DS).

Friday, July 8, 2011

• Meet at Halsey forebay at 8 a.m.;

• Halsey afterbay (DS);

• Rock Creek reservoir (DS),

Wise canal, Rock Creek, delivery to North Auburn Water Treatment Plant;

• Auburn Ravine,

Delivery to Auburn Ravine at YB-259, PCWA Pump Station into South canal;

• Newcastle forebay and powerhouse (DS).

If you plan to attend, please notify Alan Mitchnick, FERC Team Leader, at (202) 502-6074 or alan.mitchnick@ferc.gov, no later than June 30, 2011.

Dated: June 10, 2011.
Kimberly D. Bose,
Secretary.

[FR Doc. 2011-14969 Filed 6-15-11; 8:45 am]

BILLING CODE 6717-01-P